NATIONAL AERONAUTICS AND SPACE ADMINISTRATION

[Notice: (20-036)]

National Space Council Users' Advisory Group; Meeting

AGENCY: National Aeronautics and Space Administration.

ACTION: Notice of meeting postponement.

SUMMARY: In accordance with the Federal Advisory Committee Act, the National Aeronautics and Space Administration (NASA) announces that the planned meeting on March 30, 2020, of the National Space Council Users' Advisory Group (UAG) is being postponed until further notice.

SUPPLEMENTARY INFORMATION: This meeting was announced in the Federal Register on March 18, 2020 (see reference below). The postponement of this meeting is due to scheduling issues of the key participants. NASA will announce the new dates for this meeting in a future Federal Register notice. REF: Federal Register/Vol. 85, No. 53/Wednesday, March 18, 2020/Notices; page 15504.

Patricia Rausch,
Advisory Committee Management Officer, National Aeronautics and Space Administration.

[FR Doc. 2020-06228 Filed 3-24-20; 8:45 am]

BILLING CODE 7510-13-P